DEPARTMENT OF ENERGY

Federal Energy Regulatory Commission

[Docket No. CP20-50-000; Docket No. CP20-51-000]

Tennessee Gas Pipeline Company, LLC and Southern Natural Gas Company, LLC; Notice of Availability of the Final Environmental Impact Statement for the Proposed Evangeline Pass Expansion Project

The staff of the Federal Energy Regulatory Commission (FERC or Commission) has prepared a final environmental impact statement (EIS) for the Evangeline Pass Expansion Project (Project), proposed by Tennessee Gas Pipeline Company, LLC (Tennessee) and Southern Natural Gas Company, LLC (SNG) in the above-referenced dockets.

Tennessee requests authorization to construct and operate about 13 miles of 36-inch-diameter pipeline and a new compressor station in St. Bernard and Plaquemines Parishes, Louisiana. SNG requests authorization to construct and operate a new compressor station and three new meter stations in Clarke and Smith, Counties, Mississippi; and St. Bernard Parish, Louisiana. The Project would enable the transportation of up to 1,100,000 dekatherms per day of natural gas to an interconnect with Venture Global Gator Express, LLC's Gator Express Pipeline to provide feed gas for Venture Global Plaquemines LNG, LLC's facility in Plaquemines Parish, Louisiana.

The final EIS assesses the potential environmental effects of the construction and operation of the Project in accordance with the requirements of the National Environmental Policy Act. The final EIS is not a decision document. It presents Commission staff's independent analysis of the environmental issues for the Commission to consider when addressing the merits of all issues in this proceeding.

The final EIS responds to comments that were received on the Commission's August 24, 2020 Environmental Assessment (EA) and July 16, 2021 draft EIS ¹ and discloses downstream greenhouse gas emissions for the Project. With the exception of climate change impacts, FERC staff concludes that approval of the proposed Project, with the mitigation measures recommended in this final EIS, would not result in significant environmental impacts. FERC staff continues to be unable to determine significance with regards to climate change impacts.

¹ The Project's EA is available on eLibrary under accession no. 20200824-3066 and the draft EIS is available under accession no. 20210716-3005.

The final EIS incorporates the above referenced EA, which addressed the potential environmental effects of the construction and operation of the following Project facilities, by the respective applicants:

Tennessee

• About 9 miles of 36-inch-diameter looping ² pipeline in St. Bernard Parish, Louisiana (Yscloskey Toca Lateral Loop);

² A pipeline loop is a segment of pipe constructed parallel to an existing pipeline to increase capacity.

• about 4 miles of 36-inch-diameter looping pipeline in Plaquemines Parish, Louisiana (Grand Bayou Loop); and

• a new 23,470 horsepower (hp) compressor station consisting of one natural gas-fired Solar Turbines Titan 130 turbine driven compressor unit along Tennessee's existing 500 line in St. Bernard Parish, Louisiana (Compressor Station 529).

SNG

• A new 22,220 hp compressor station consisting of two natural gas-fired Solar Taurus 70 turbines (11,110 hp each) in Clarke County, Mississippi (Rose Hill Compressor Station); and

• three new meter stations: Rose Hill Receipt Meter Station in Clarke County, Mississippi; Midcontinent Express Pipeline Receipt Meter Station in Smith County, Mississippi; and Toca Delivery Meter Station in St. Bernard Parish, Louisiana.

The Commission mailed a copy of the Notice of Availability of the Final Environmental Impact Statement for the Evangeline Pass Expansion Project to federal, state, and local government representatives and agencies; elected officials; environmental and public interest groups; Native American tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e. CP20-50-000 or CP20-51-000). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 8, 2021.
Kimberly D. Bose,
Secretary.

[FR Doc. 2021-22516 Filed 10-14-21; 8:45 am]

BILLING CODE 6717-01-P